DEPARTMENT OF HOMELAND SECURITY

Coast Guard

33 CFR Part 117

[USCG-2017-0852]

Drawbridge Operation Regulation; Gulf Intracoastal Waterway, Harvey, LA

AGENCY: Coast Guard, DHS.

ACTION: Notice of deviation from drawbridge regulation.

SUMMARY: The Coast Guard has issued a temporary deviation from the operating schedule that governs the Harvey Canal Fourth Street Bridge across the Gulf Intracoastal Waterway (GIWW) mile 0.24 West of Harvey Lock (WHL), at Harvey, Louisiana. The deviation is necessary to allow the contractor to rehabilitate the bridge to continue full operation. This deviation allows the bridge to remain closed-to-navigation for 77 consecutive days.

DATES: This deviation is effective without actual notice from September 13, 2017 through 7 p.m. on Tuesday, November 21, 2017. For the purposes of enforcement, actual notice will be used from September 8, 2017 through September 13, 2017.

ADDRESSES: The docket for this deviation, [USCG-2017-0852] is available at http://www.regulations.gov. Type the docket number in the “SEARCH” box and click “SEARCH.” Click on Open Docket Folder on the line associated with this deviation.

FOR FURTHER INFORMATION CONTACT: If you have questions on this temporary deviation, call or email Donna Gagliano, Bridge Administration Branch, Coast Guard; telephone 504-671-2128, email Donna.Gagliano@uscg.mil.

SUPPLEMENTARY INFORMATION: The C.E.C. Inc., acting on behalf of Louisiana Department of Transportation and Development, has requested a temporary deviation from the operating schedule of the Harvey Canal Fourth Street Bascule Bridge across GIWW, mile 0.24 WHL (Harvey Canal), at Harvey, Louisiana. This deviation was requested to replace electrical and hydraulic lines including trunnion shafts along with span and tail locks initial installation to the drawbridge. This bridge is governed by 33 CFR 117.5.

This deviation allows the bascule bridge to remain in the closed-to-navigation position for 77 consecutive days from 6:30 a.m. on September 6, 2017 through 7 p.m. on Tuesday, November 21, 2017.

This bridge has a vertical clearance of 7 feet above mean high water in the closed-to-navigation position.

Navigation at the site of the bridge consists mainly of tugs with barges and some recreational pleasure craft. For the duration of the rehabilitation the bridge will not be able to open for emergencies and GIWW Algiers Alternate Route can be used as an alternate route to avoid unnecessary delays. The Coast Guard will inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulation is authorized under 33 CFR 117.35.

Dated: September 8, 2017.
Douglas Allen Blakemore, Sr.,
Bridge Administrator, Eighth Coast Guard District.

[FR Doc. 2017-19456 Filed 9-12-17; 8:45 am]

BILLING CODE 9110-04-P